Proclamation 8864 of September 14, 2012

National Employer Support of the Guard and Reserve Week, 2012

By the President of the United States of America

A Proclamation

During the 236 years since our fundamental rights to life, liberty, and the pursuit of happiness were first put to paper, ordinary citizens have always stood ready to defend them as members of the United States Armed Forces. Today's service members represent the latest in the long line of heroes who have answered their country's call, and their exceptional service in a post-9/11 world has secured their place alongside the greatest generations. As essential components of our military, the National Guard and Reserve have helped carry that legacy forward. This week, we honor their service and sacrifice, give thanks to their employers, and reaffirm our commitment to giving our troops, our military families, and our veterans the opportunities and support they have earned.

Of the more than 2 million Americans who have gone to war since September 11, 2001, many have been members of the Guard and Reserve. Deployment after deployment, these men and women demonstrate the utmost courage and distinction in the line of duty, putting themselves in harm's way while knowing all too well the full cost of conflict. Members of the Guard and Reserve also serve here at home, stepping in to keep our communities safe when emergencies or natural disasters threaten our security. For their extraordinary sacrifice, our Nation must serve them as well as they have served us—from ensuring they have our fullest support on the battlefield to helping them find good jobs when they come home.

Businesses across America are helping us meet that obligation by hiring and retaining members of the Guard and Reserve, and by creating a culture of military support in the workplace. These employers help keep our service members' civilian careers moving forward, and many demonstrate their invaluable support by ensuring our men and women in uniform—and their families—get the flexibility and care they need during deployment. At a time when our Nation has asked so much of our troops and military families, businesses nationwide are helping them meet the challenges they face and defend the country they love.

America shares a sacred trust with all those who serve in our Armed Forces, and my Administration remains committed to honoring that trust. As part of First Lady Michelle Obama and Dr. Jill Biden's Joining Forces initiative, we have striven to expand employment opportunities for veterans and military spouses, and to help workplaces create environments that support military families. Within the past year, 2,000 companies have hired or trained more than 125,000 service members and military spouses through Joining Forces. With tools like our online Veterans Job Bank, we are connecting veterans to businesses that will put their skills to work. I was proud to sign the VOW to Hire Heroes Act, which created new tax credits to encourage employers to hire veterans. And this July, we announced an overhaul of our transition assistance program that will give departing service members the training they need to find their next job or advance their education and skills.

During National Employer Support of the Guard and Reserve Week, let us pay tribute to the brave men and women who keep our Nation safe and celebrate their devoted employers, whose support is vital to the strength of our military.

NOW, THEREFORE, I, BARACK OBAMA, President of the United States of America, by virtue of the authority vested in me by the Constitution and the laws of the United States, do hereby proclaim September 16 through September 22, 2012, as National Employer Support of the Guard and Reserve Week. I call upon all Americans to join me in expressing our heartfelt thanks to the members of the National Guard and Reserve and their civilian employers. I also call on State and local officials, private organizations, and all military commanders, to observe this week with appropriate ceremonies and activities.

IN WITNESS WHEREOF, I have hereunto set my hand this fourteenth day of September, in the year of our Lord two thousand twelve, and of the Independence of the United States of America the two hundred and thirty-seventh.

[FR Doc. 2012-23295

Filed 9-18-12; 11:15 am]

Billing code 3295-F2-P